ENVIRONMENTAL PROTECTION AGENCY

[EPA-HQ-OPP-2007-0038; FRL-8144-9]

Oak Ridge National Laboratory, Managed by UT-Battelle, LLC; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to Oak Ridge National Laboratory, managed by UT-Battelle, LLC in accordance with 40 CFR 2.307(h)(3) and 2.308(i)(2). Oak Ridge National Laboratory, managed by UT-Battelle, LLC has been awarded multiple contracts to perform work for OPP under an Interagency Agreement (IAG). Acess to this information will enable Oak Ridge National Laboratory, managed by UT-Battelle, LLC to fulfill the obligations of the IAG.

DATES: Oak Ridge National Laboratory, managed by UT-Battelle, LLC will be given access to this information on or before September 17, 2007.

FOR FURTHER INFORMATION CONTACT: Felicia Croom, Information Technology and Resources Management Division (7502P), Office of Pesticide Programs, Environmental Protection Agency, 1200 Pennsylvania Ave., NW., Washington, DC 20460-0001; telephone number: (703) 305-0786; e-mail address: croom.felicia@epa.gov.

SUPPLEMENTARY INFORMATION:

I. General Information

A. Does this Action Apply to Me?

This action applies to the public in general. As such, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPPT-2007-0038 Publicly available docket materials are available either in the electronic docket at http://www.regulations.gov, or, if only available in hard copy, at the Office of Pesticide Programs (OPP) Regulatory Public Docket in Rm. S-4400, One Potomac Yard (South Bldg.), 2777 S. Crystal Dr. Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Contractor Requirements

Under IAG No.DW-89-92253001, the contractor shall perform technical reviews of economical analyses, market plans and economic benefit data provided by developers and manufacturers of new pesticide products. These economic analyses are submitted to EPP OPP as part of the pesticide registration process. Technical reports from registrant include summaries of economic analyses, market plans, economic modeling and benefit analyses as well as raw data fro economic analyses of each pesticide product.

OPP has determined that the IAG described in this document involve work that is being conducted in connection with FIFRA, in that pesticide chemicals will be the subject of certain evaluations to be made under this IAG. These evaluations may be used in subsequent regulatory decisions under FIFRA. Some of this information may be entitled to confidential treatment. The information has been submitted to EPA under sections 3, 4, 6, and 7 of FIFRA and under section 408 of FFDCA.

In accordance with the requirements of 40 CFR 2.307(h)(3), the IAG with Oak Ridge National Laboratory, managed by UT-Battelle, LLC, prohibits use of the information for any purpose not specified in these contracts; prohibits disclosure of the information to a third party without prior written approval from the Agency; and requires that each official and employee of the contractor sign an agreement to protect the information from unauthorized release and to handle it in accordance with the FIFRA Information Security Manual. In addition, Oak Ridge National Laboratory, managed by UT-Battelle, LLC is required to submit for EPA approval a security plan under which any CBI will be secured and protected against unauthorized release or compromise. No information will be provided to Oak Ridge National Laboratory, managed by UT-Battelle, LLC until the requirements in this document have been fully satisfied. Records of information provided to Oak Ridge National Laboratory, managed by UT-Battelle, LLC will be maintained by EPA Project Officers for these contracts. All information supplied to Oak Ridge National Laboratory, managed by UT-Battelle, LLC by EPA for use in connection with these contracts will be returned to EPA Oak Ridge National Laboratory, managed by UT-Battelle, LLC has completed its work.

List of Subjects

Environmental protection, Business and industry, Government contracts, Government property, Security measures.

Dated: August 31, 2007.
Oscar Morales,
Acting Director, Office of Pesticide Programs.

[FR Doc. E7-17990 Filed 9-11-07; 8:45 am]

[BILLING CODE 6560-50-S]